DEPARTMENT OF COMMERCE

National Oceanic and Atmospheric Administration (NOAA)

Marine Protected Areas Federal Advisory Committee; Public Meeting

AGENCY: Office of National Marine Sanctuaries (ONMS), National Ocean Service (NOS), National Oceanic and Atmospheric Administration (NOAA), Department of Commerce (Commerce).

ACTION: Notice of open meeting.

SUMMARY: Notice is hereby given of a meeting via web conference call of the Marine Protected Areas Federal Advisory Committee (Committee). The web conference calls are open to the public, and participants can dial in to the calls. Participants who choose to use the web conferencing feature in addition to the audio will be able to view the presentations as they are being given. Members of the public wishing to listen in should contact Lauren Wenzel at the email or telephone number below for the call-in number and passcode.

DATES: The meeting will be held Wednesday, May 1, from 1:00 to 3:30 p.m. EDT. These times and the agenda topics described below are subject to change. Refer to the Web page listed below for the most up-to-date meeting agenda.

ADDRESSES: The meeting will be held via web conference call.

FOR FURTHER INFORMATION CONTACT: Lauren Wenzel, Acting Designated Federal Officer, MPA FAC, National Marine Protected Areas Center, 1305 East West Highway, Silver Spring, Maryland 20910. (Phone: 301-713-7265, Fax: 301-713-3110); email: lauren.wenzel@noaa.gov; or visit the National MPA Center Web site at http://www.mpa.gov).

SUPPLEMENTARY INFORMATION: The Committee, composed of external, knowledgeable representatives of stakeholder groups, was established by the Department of Commerce (DOC) to provide advice to the Secretaries of Commerce and the Interior on implementation of Section 4 of Executive Order 13158, on marine protected areas.

Matters to be Considered: The focus of the Committee's meeting is reporting on the Subcommittee workplans and their implementation (Jobs, Recreation and Tourism Subcommittee and Stakeholder Engagement Subcommittee) to address the Committee's charge. The Committee will also hear updates from the National Oceanic and Atmospheric Administration and the Department of the Interior. The agenda is subject to change. The latest version will be posted at http://www.mpa.gov.

Dated: March 20, 2013.
Daniel J. Basta,
Director, Office of National Marine Sanctuaries, National Ocean Service, National Oceanic and Atmospheric Administration.

[FR Doc. 2013-07274 Filed 3-29-13; 8:45 am]

BILLING CODE 3510-NK-M